DEPARTMENT OF ENERGY

Federal Energy Regulatory Commission

[Project Nos. 2403-048, 2534-068, 2666-023, 2712-055, and 2600-056]

PPL Maine, LLC; Bangor-Pacific Hydro Associates; Notice of Availability of Final Environmental Assessment

April 18, 2005.

In accordance with the National Environmental Policy Act of 1969 and the Federal Energy Regulatory Commission (Commission or FERC) regulations contained in the Code of Federal Regulations (CFR) (18 CFR part 380 [FERC Order No. 486, 52 FR 47897]), the Office of Energy Projects staff (staff) reviewed the applications for amendment of licenses for the Veazie Project, which is located on the Penobscot River in Penobscot County, Maine; the Milford Project, which is located on the Penobscot River and Stillwater Branch in Penobscot County, Maine; the West Enfield Project which is located on the Penobscot River in Penobscot County, Maine; the Stillwater Project, which is located on the Stillwater Branch in Penobscot County, Maine; and the Medway Project, which is located on the West Branch Penobscot River in Penobscot County, Maine, and prepared a final environmental assessment (FEA) for the projects. In this FEA, staff analyzes the potential environmental effects of the proposed license amendments and concludes that the amendments would not constitute a major federal action significantly affecting the quality of the human environment.

A copy of the FEA is available for review at the Commission in the Public Reference Room, or it may be viewed on the Commission's Web site at http://www.ferc.gov using the “e-Library” link. Enter the docket number (p-2403) in the docket number field to access the document. For assistance, call (202) 502-8222 or (202) 502-8659 (for TTY).

Magalie R. Salas,
Secretary.

[FR Doc. E5-1907 Filed 4-21-05; 8:45 am]

BILLING CODE 6717-01-P